DEPARTMENT OF ENERGY

Federal Energy Regulatory Commission

[Project No. 2897-044]

S.D. Warren; Notice of Application Accepted for Filing, Soliciting Comments, Motions To Intervene, and Protests

Take notice that the following hydroelectric application has been filed with the Commission and is available for public inspection:

a. Type of Application: Surrender of License.

b. Project No.: 2897-044.

c. Date Filed: December 2, 2015.

d. Applicant: S.D. Warren.

e. Name of Project: Saccarappa Project.

f. Location: On the Presumpscot River in Westbrook, Cumberland County, Maine.

g. Filed Pursuant to: 18 CFR 6.1.

h. Applicant Contact: Barry Stemm, Senior Engineer, Sappi North America, P.O. Box 5000, Westbrook, ME 04098, (207) 856-4584, and Briana K. O'Regan, Esq., Assistant General Counsel, Sappi North America, 179 John Roberts Road, South Portland, ME 04106, (207) 854-7070.

i. FERC Contact: Mr. M. Joseph Fayyad, (202) 502-8759, Mo.Fayyad@ferc.gov, and Jennifer Ambler, (202) 502-8586, Jennifer.Ambler@ferc.gov.

j. Deadline for filing comments, motions to intervene and protests, is 30 days from the issuance date of this notice. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-2897-044.

k. Description of Project Facilities: The existing project as licensed consists of: (a) A 322-foot-long concrete dam, comprised of a 220-foot-long by 10-foot-high east overflow section and a 102-foot-long by 12-foot-high west overflow section; (b) a headgate structure of approximately 60 feet in length, with three 7.5-foot-wide by 9.5-foot-high intake gates; (c) a 380-foot-long by 36-foot-wide bedrock lined intake canal; (c) an 80-foot-long forebay; (d) a 5.0-mile-long impoundment, with a normal pool elevation of 69.95 feet USGS datum, a surface area of about 87 acres and negligible storage; (e) a 49-foot-wide by 71-foot-long masonry powerhouse; (f) three generating units with a total project installed capacity of 1,350 kW; (g) two bypassed reaches measuring 475 and 390 feet in length; (h) a 345-foot-long tailrace, formed by a 33-foot-high guard wall; (i) a 1-mile-long, 2.3-kilovolt (kV) transmission line/generator lead; and (j) other appurtenances.

l. Description of Request: The licensee's surrender proposal involves removal of the eastern spillway, western spillway, and ancillary structures in the forebay channel, filling the existing tailrace, installation of a double Denil fishway within the filled tailrace structure, and physical modifications in the upper western channel to facilitate nature like fish passage. The generating units and transmission facilities will also be removed; however, the powerhouse structure will remain for now, but will likely eventually be demolished.

m. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 3, 2016.
Nathaniel J. Davis, Sr.,
Deputy Secretary.

[FR Doc. 2016-05354 Filed 3-9-16; 8:45 am]

BILLING CODE 6717-01-P